DEPARTMENT OF THE INTERIOR

National Park Service

Flight 93 National Memorial Advisory Commission Meeting

AGENCY: National Park Service, Interior.

ACTION: Notice of October 7, 2006 meeting.

SUMMARY: This notice sets forth the date of the October 7, 2006 meeting of the Flight 93 Advisory Commission.

DATES: The public meeting of the Advisory Commission will be held on Saturday, October 7, 2006 from 3 p.m. to 4:30 p.m. Additionally, the Commission will attend the Flight 93 Memorial Task Force meeting the same day from 1 p.m. to 2:30 p.m., which is also open to the public.

Location: The meeting will be held at the Somerset County Courthouse, Courtroom #1; 2nd floor; 111 East Union Street, Somerset, Pennsylvania, 15501. The Flight 93 Memorial Task Force meeting will be held in the same location.

Agenda

The October 7, 2006 Commission meeting will consist of:

(1) Opening of Meeting and Pledge of Allegiance.

(2) Review and Approval of Minutes from July 29, 2006.

(3) Reports from the Flight 93 Memorial Task Force and National Park Service. Comments from the public will be received after each report and/or at the end of the meeting.

(4) Old Business.

(5) New Business.

(6) Public Comments.

(7) Closing Remarks.

FOR FURTHER INFORMATION CONTACT: Joanne M. Hanley, Superintendent, Flight 93 National Memorial, 109 West Main Street, Somerset, PA 15501, 814.443.4557.

SUPPLEMENTARY INFORMATION: The meeting will be open to the public. Any member of the public may file with the Commission a written statement concerning agenda items. Address all statements to: Flight 93 Advisory Commission, 109 West Main Street, Somerset, PA 15501.

Dated: August 29, 2006.
Joanne M. Hanley,
Superintendent, Flight 93 National Memorial.

[FR Doc. 06-8334 Filed 9-27-06; 8:45 am]

BILLING CODE 4312-25-M